DEPARTMENT OF HEALTH AND HUMAN SERVICES

National Institutes of Health

Office of the Director, National Institutes of Health; Amended Notice of Meeting

Notice is hereby given of a change in the meeting of the Council of Councils, September 8, 2022, 10:30 a.m. to September 9, 2022, 03:00 p.m., virtual meeting which was published in the Federal Register on, August 8, 2022, FR Doc 2022-16892, 87 FR 48189.

The notice is being amended to change the start and end times of the open portion of the meeting on September 8, 2022 from 10:30 a.m. to 10:15 a.m. and end time 3:00 p.m. to 3:30 p.m. and change the end time of the open portion of the meeting on September 9, 2022 from 3:10 p.m. to 3:15 p.m.

Dated: August 12, 2022.
David W Freeman,
Program Analyst, Office of Federal Advisory Committee Policy.

[FR Doc. 2022-17726 Filed 8-17-22; 8:45 am]

BILLING CODE 4140-01-P